DEPARTMENT OF THE INTERIOR

National Park Service

Notice of Inventory Completion for Native American Human Remains and Associated Funerary Objects in the Control of the U.S. Department of Interior, Bureau of Land Management, New Mexico State Office, Santa Fe, NM

AGENCY: National Park Service, Interior.

ACTION: Notice.

Notice is hereby given in accordance with provisions of the Native American Graves Protection and Repatriation Act (NAGPRA), 43 CFR 10.9, of the completion of an inventory of human remains and associated funerary objects in the control of the U.S. Department of Interior, Bureau of Land Management, New Mexico State Office, Santa Fe, NM.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Colorado Museum, Eastern New Mexico University, the Maxwell Museum of Anthropology (University of New Mexico), the New Mexico State University Museum, the Museum of New Mexico, the San Juan County Museum, and Bureau of Land Management professional staff in consultation with representatives of the Hopi Tribe of Arizona; the Navajo Nation, Arizona, New Mexico, and Utah; the Pueblo of Acoma, New Mexico; the Pueblo of Jemez, New Mexico; the Pueblo of Isleta, New Mexico; the Pueblo of San Ildefonso, New Mexico; the Pueblo of Zia, New Mexico; and the Zuni Tribe of the Zuni Reservation.

Between 1966 and 1967, human remains representing three individuals were recovered from site LA 8779 in New Mexico during legally authorized excavations and collections conducted by the Cottonwood Gulch Foundation. These human remains are presently curated at the Maxwell Museum of Anthropology, University of New Mexico. No known individuals were identified. The eight associated funerary object are a pottery effigy, ladle and bowls, a jet bead, and yucca cord fragments.

Based on material culture, architecture, and site organization, site LA 8779 has been identified as a Chacoan outlier occupied between C.E. 1100-1300.

In 1978, human remains representing two individuals were recovered from site LA 89418 in New Mexico during legally authorized excavations and collections by Bill Kight of the Bureau of Land Management. These human remains are presently curated at the Maxwell Museum of Anthropology, University of New Mexico. No known individuals were identified. No associated funerary objects are present.

Based on material culture and site organization, site LA 89418 has been identified as a small Anasazi pueblo occupied between C.E. 900-1300.

In 1979, human remains representing two individuals were recovered from site LA 27211 in New Mexico during legally authorized excavations and collections by the Bureau of Land Management. These human remains are currently curated at the Maxwell Museum of Anthropology, University of New Mexico. No known individuals were identified. The two associated funerary objects are a pottery bowl and pitcher.

Based on material culture and site organization, site LA 27211 has been identified as a small Anasazi pueblo occupied between C.E. 900-1300.

In 1987, human remains representing five individuals were recovered from site LA 50364 in New Mexico during legally authorized excavations and collections by Complete Archaeological Service Associates. These human remains are presently curated by the Museum of New Mexico. No known individuals were identified. No associated funerary objects were present.

Based on material culture and site organization, site LA 50364 has been identified as a small Anasazi pueblo occupied between C.E. 1050-1150.

Continuities of ethnographic materials, technology, and architecture indicate affiliation of Anasazi sites in this area of New Mexico with historic and present-day Puebloan cultures. Oral traditions presented by representatives of the Pueblo of Acoma, New Mexico; the Hopi Tribe of Arizona; and the Zuni Tribe of the Zuni Reservation support cultural affiliation with Anasazi sites in this area of New Mexico.

Based on the above mentioned information, officials of the New Mexico State Office of the Bureau of Land Management have determined that, pursuant to 43 CFR 10.2 (d)(1), the human remains listed above represent the physical remains of 12 individuals of Native American ancestry. Officials of the New Mexico State Office of the Bureau of Land Management also have determined that, pursuant to 43 CFR 10.2 (d)(2), the 10 objects listed above are reasonably believed to have been placed with or near individual human remains at the time of death or later as part of the death rite or ceremony. Lastly, officials of the New Mexico State Office of the Bureau of Land Management have determined that, pursuant to 43 CFR 10.2 (e), there is a relationship of shared group identity that can be reasonably traced between these Native American human remains and associated funerary objects and the Pueblo of Acoma, New Mexico; the Hopi Tribe of Arizona; and the Zuni Tribe of the Zuni Reservation.

This notice has been sent to officials of the Hopi Tribe of Arizona; the Navajo Nation, Arizona, New Mexico, and Utah; the Pueblo of Acoma, New Mexico; the Pueblo of Jemez, New Mexico; the Pueblo of Isleta, New Mexico; the Pueblo of San Ildefonso, New Mexico; the Pueblo of Zia, New Mexico; and the Zuni Tribe of the Zuni Reservation. Representatives of any other Indian tribe that believes itself to be culturally affiliated with these human remains and associated funerary objects should contact Stephen L. Fosberg, State Archeologist and NAGPRA Coordinator, New Mexico State Office, Bureau of Land Management, 1474 Rodeo Road, Santa Fe, NM 87502-0115, telephone (505) 438-7415, before March 23, 2001. Repatriation of the human remains and associated funerary objects to the Pueblo of Acoma, New Mexico; the Hopi Tribe of Arizona; and the Zuni Tribe of the Zuni Reservation may begin after that date if no additional claimants come forward.

Dated: February 1, 2001.
John Robbins,
Assistant Director, Cultural Resources Stewardship and Partnerships.

[FR Doc. 01-4297 Filed 2-20-01; 8:45 am]

BILLING CODE 4310-70-F